ENVIRONMENTAL PROTECTION AGENCY

[FRL-8006-9]

Solitron Devices Inc. Superfund Site Riviera Beach, FL; Notice of Title Correction and Extension of Comment Period

AGENCY: Environmental Protection Agency (EPA).

ACTION: Notice of Title Correction; Solitron Devices, Inc. and Extension of Comment Period.

SUMMARY: On November 25, 2005, EPA incorrectly published a Federal Register Notice titled Northeast Chemical Superfund Site. The notice was published in Volume 70 on page 71142 of the Federal Register. This notice is to revise and change the title to the Solitron Devices, Inc. Superfund Site. This notice also extends the comment period until January 2, 2006. The notice states that under section 122(h) of the Comprehensive Environmental Response, Compensation and Liability Act (CERCLA), the Environmental Protection Agency has entered into a Cost Recovery Settlement with Solitron Devices, Inc. to settle liability at the following Superfund Sites: Solitron Devices Superfund Site located in Riviera Beach, Florida; Solitron Microwave Superfund Site located in Port Salerno, Florida; Petroleum Products Corporation Superfund Site located in Pembroke Park, Florida; City Industries, Inc., Superfund Site located in Orlando, Florida; and the Casmalia Resources Superfund Site located in Santa Barbara County, California.

DATES: EPA will consider public comments on the proposed settlement until January 2, 2006. EPA may withdraw from or modify the proposed settlement should such comments disclose facts or considerations which indicate the proposed settlement is inappropriate, improper or inadequate.

ADDRESSES: Copies of the proposed settlement are available from: Ms. Paula V. Batchelor, U.S. Environmental Protection Agency, Region 4, Superfund Enforcement and Information Management Branch, Waste Management Division, 61 Forsyth Street, SW., Atlanta, Georgia 30303. 404/562-8887. Batchelor.Paula@epa.gov.

Written or e-mail comments may be submitted to Ms. Batchelor at the above address within thirty days of the date of publication.

Dated: November 30, 2005.
Rosalind H. Brown,
Chief, Superfund Enforcement and Information Management Branch, Waste Management Division.

[FR Doc. E5-7127 Filed 12-8-05; 8:45 am]

BILLING CODE 6560-50-P